DEPARTMENT OF THE INTERIOR

Fish and Wildlife Service

Endangered and Threatened Wildlife and Plants; Initiation of a 5-Year Review of Curtis' Pearlymussel and Indiana Bat

AGENCY: Fish and Wildlife Service, Interior.

ACTION: Notice of review.

SUMMARY: The U.S. Fish and Wildlife Service (Service, we), announces a 5-year review of Curtis' pearlymussel (Epioblasma florentina curtisii) and Indiana bat (Myotis sodalis) under the Endangered Species Act, as amended (Act). We request any new information on these species that may have a bearing on their classification as endangered. Based on the results of this review, we will make a finding on whether these species are properly classified under the Act.

DATES: Information must be received no later than December 20, 2006.

ADDRESSES: Submit information to the appropriate U.S. Fish and Wildlife Service Ecological Services Field Supervisor at the following:

1. Curtis' pearlymussel: 101 Park DeVille Drive, Suite A, Columbia, Missouri 65203-0057, or e-mail to: fw3curtispearlymussel5year@fws.gov.

2. Indiana bat: 620 S. Walker Street, Bloomington, Indiana 47403-2121, or e-mail to: fw3indianabat5year@fws.gov.

See SUPPLEMENTARY INFORMATION for electronic file formats and other information.

FOR FURTHER INFORMATION CONTACT:

1. Curtis' pearlymussel: Mr. Andy Roberts, Columbia Ecological Services Field Office (see ADDRESSES); telephone (573) 234-2132, extension 110; facsimile (573) 234-234-2181.

2. Indiana bat: Ms. Lori Pruitt, Bloomington Ecological Services Field Office (see ADDRESSES); telephone (812) 334-4261, extension 211; facsimile (812) 334-4273.

Individuals who are hearing impaired or speech impaired may call the Federal Relay Service at (800) 877-8337 for TTY assistance.

SUPPLEMENTARY INFORMATION: We announce a 5-year review of Curtis' pearlymussel and Indiana bat under section 4(c)(2)(A) of the Endangered Species Act of 1973 (16 U.S.C. 1531 et seq.). We request any new information and appropriate data since their original listing or most recent status review which documents the need to delist or reclassify these species.

A 5-year review is a periodic process conducted to ensure that the classification of a listed species is appropriate. It is based on the best scientific and commercial data available at the time of the review. Based on the results of these 5-year reviews, we will make a finding of whether these species are properly classified under section 4(c)(2)(B) of the Act.

Under the Act, the Service maintains the list of endangered and threatened wildlife and plant species (List) at 50 CFR 17.11 and 17.12. Amendments to the List through final rules are published in the Federal Register. The List of wildlife and plants is available on our Internet site at http://www.fws.gov/endangered/wildlife/html#species. Section 4(c)(2)(A) of the Act requires that we conduct a review of listed species at least once every 5 years. Section 4(c)(2)(B) requires that we determine (1) Whether a species no longer meets the definition of threatened or endangered and should be removed from the List (delisted); (2) whether a species more properly meets the definition of threatened and should be reclassified from endangered to threatened; or (3) whether a species more properly meets the definition of endangered and should be reclassified from threatened to endangered. Using the best scientific and commercial data available, a species will be considered for delisting if the data substantiate that the species is neither endangered nor threatened for one or more of the following reasons: (1) The species is considered extinct; (2) the species is considered to be recovered; and/or (3) the original data available when the species was listed, or the interpretation of such data, were in error. Any change in Federal classification requires a separate rulemaking process.

Definitions

The following definitions (according to the Act) are provided to assist those persons who contemplate submitting new information regarding the status of the species identified in the table below:

“Species” includes any species or subspecies of fish or wildlife or plant, and any distinct population segment of any species or subspecies of a vertebrate, that is capable of interbreeding when mature.

“Endangered species” means any species that is in danger of extinction throughout all or a significant portion of its range.

“Threatened species” means any species that is likely to become an endangered species within the foreseeable future throughout all or a significant portion of its range.

The regulations in 50 CFR 424.21 require that we publish a notice in the Federal Register announcing those species currently under active review. This announces our active review of Curtis' pearlymussel and Indiana bat.

Species Summary
Common name | Scientific name | Status | Listed entity | When listed
Curtis' pearlymussel | Epioblasma florentina curtisii | Endangered | U.S.A. (AR, MO) | June 14, 1976, (41 FR 24062).
Indiana bat | Myotis sodalis | Endangered | Eastern and Midwestern U.S.A | Mar 11, 1967, (32 FR 4001).

Public Solicitation of New Information

To ensure that the 5-year reviews are complete and based on the best scientific and commercial data available, we are soliciting new information from the public, concerned governmental agencies, tribes, the scientific community, industry, environmental entities, and any other interested parties concerning the status of Curtis' pearlymussel and Indiana bat. A 5-year review considers the best scientific and commercial data and all new information that has become available since the listing determination or most recent status review. Categories of requested information include (A) species biology, including but not limited to population trends, distribution, abundance, demographics, and genetics; (B) habitat conditions, including but not limited to amount, distribution, and suitability; (C) conservation measures that have been implemented that benefit the species; (D) threat status and trends; and (E) other new information, data, or corrections, including but not limited to taxonomic or nomenclature changes, identification of erroneous information contained in the List, and improved analytical methods.

Electronic Access and Filing

You must submit electronic information (see ADDRESSES) in MS Word, Rich Text format, or Plain Text format, and include “Curtis’ Pearlymussel 5-Year Review Comments” or “Indiana Bat 5-Year Review Comments” in the title line.

Information submitted to the U.S. Fish and Wildlife Service Ecological Services Field Supervisor (see ADDRESSES) must be received within sufficient time to allow adequate time to conduct these 5-year reviews (see DATES). If you do not respond to this request for information but subsequently possess information on the status of these species, we will accept new information regarding any federally listed species at any time.

Our practice is to make information, including names and home addresses of respondents, available for public review during regular business hours. Respondents may request that we withhold a respondent's identity, as allowable by law. If you wish us to withhold your name or address, you must state this request prominently at the beginning of the information that you are submitting. We will not, however, consider information submitted anonymously. To the extent consistent with applicable law, we will make all submissions from organizations or businesses, and from individuals identifying themselves as representatives or officials of organizations or businesses, available for public inspection in their entirety. Information received in response to this notice will be available for public inspection, by appointment, during normal business hours (see ADDRESSES).

Authority: This document is published under the authority of the Endangered Species Act of 1973, as amended (16 U.S.C. 1531 et seq.).

Dated: September 7, 2006.
Lynn Lewis,
Deputy Assistant Regional Director, Ecological Services, Region 3.

[FR Doc. 06-7883 Filed 9-20-06; 8:45 am]

BILLING CODE 4310-55-P